Title 3—

The President

Proclamation 10999 of December 29, 2025

To Implement the United States-Israel Agreement on Trade in Agricultural Products and for Other Purposes

By the President of the United States of America

A Proclamation

1. On April 22, 1985, the United States and Israel entered into the Agreement on the Establishment of a Free Trade Area between the Government of the United States of America and the Government of Israel (the “USIFTA”), which the Congress approved in section 3 of the United States-Israel Free Trade Area Implementation Act of 1985 (the “USIFTA Implementation Act”) (Public Law 99-47, 99 Stat. 82 (19 U.S.C. 2112 note)). Section 4(b) of the USIFTA Implementation Act provides that, when the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA. In order to maintain the general level of reciprocal and mutually advantageous concessions with respect to agricultural trade with Israel, on July 27, 2004, the United States entered into an agreement with Israel concerning certain aspects of trade in agricultural products during the period January 1, 2004, through December 31, 2008 (United States-Israel Agreement Concerning Certain Aspects of Trade in Agricultural Products (the “2004 Agreement”)).

2. In Proclamation 7826 of October 4, 2004, the President determined, pursuant to section 4(b) of the USIFTA Implementation Act and consistent with the 2004 Agreement, that, in order to maintain the general level of reciprocal and mutually advantageous concessions with respect to Israel provided for by the USIFTA, it was necessary to provide duty-free access into the United States through December 31, 2008, for specified quantities of certain agricultural products of Israel. Each year from 2008 through 2024, the United States and Israel entered into agreements to extend the period that the 2004 Agreement was in force for 1-year periods to allow additional time for the two governments to conclude an agreement to replace the 2004 Agreement. To carry out the extension agreements, in Proclamations 8334 of December 31, 2008; 8467 of December 23, 2009; 8618 of December 21, 2010; 8770 of December 29, 2011; 8921 of December 20, 2012; 9072 of December 23, 2013; 9223 of December 23, 2014; 9383 of December 21, 2015; 9555 of December 15, 2016; 9687 of December 22, 2017; 9834 of December 21, 2018; 9974 of December 26, 2019; 10128 of December 22, 2020; 10326 of December 23, 2021; 10509 of December 23, 2022; 10692 of December 29, 2023; and 10875 of December 20, 2024, Presidents Bush, Obama, Biden and I modified the Harmonized Tariff Schedule of the United States (HTSUS) to provide duty-free access into the United States for specified quantities of certain agricultural products of Israel, each time for an additional 1-year period.

3. On December 1, 2025, the United States entered into an agreement with Israel to make permanent modifications to the 2004 Agreement. On December 4, 2025, the United States entered into an additional agreement with Israel to extend the period that the 2004 Agreement is in force, in order to provide time for the permanent modifications to the 2004 Agreement to enter into force. Pursuant to section 4(b) of the USIFTA Implementation Act, I have determined that it is necessary, in order to maintain the general level of reciprocal and mutually advantageous concessions with respect to Israel provided for by the USIFTA, to provide duty-free access into the United States through the close of December 31, 2026, for specified quantities of certain agricultural products of Israel, as provided in Annex I of this proclamation.

4. On May 6, 2003, the United States and the Republic of Singapore entered into the United States-Singapore Free Trade Agreement (the “USSFTA”), which the Congress approved in section 101 of the United States-Singapore Free Trade Agreement Implementation Act (the “USSFTA Implementation Act”) (Public Law 108-78, 117 Stat. 948, 949 (19 U.S.C. 3805 note)). Section 201 of the USSFTA Implementation Act authorizes the President to proclaim such modifications or continuation of any duty, such continuation of duty-free or excise treatment, or such additional duties, as the President determines to be necessary or appropriate to carry out or apply articles 2.2, 2.5, 2.6, and 2.12 of the USSFTA and the schedule of reductions set forth in Annex 2B of the USSFTA. Section 202 of the USSFTA Implementation Act provides certain rules for determining whether a good is an originating good for the purposes of implementing tariff treatment under the USSFTA and authorizes the President to proclaim the provisions set out in Annexes 3A, 3B, and 3C of the USSFTA and any additional subordinate category necessary to carry out Title II consistent with the USSFTA. In Proclamation 7747 of December 30, 2003, the President determined that it was necessary to add general note 25 to the HTSUS to implement the tariff modifications and rules of origin necessary to carry out the USSFTA.

5. Proclamation 7747 contained two technical errors with respect to the rules of origin for HTSUS subheadings in chapter 90 in general note 25. I have determined that additional modifications to the HTSUS are necessary or appropriate to correct these errors.

6. On June 30, 2007, the United States and the Republic of Korea entered into the United States-Korea Free Trade Agreement (the “USKFTA”), which the Congress approved in section 101 of the United States-Korea Free Trade Agreement Implementation Act (the “USKFTA Implementation Act”) (Public Law 112-41, 125 Stat. 428, 430 (19 U.S.C. 3805 note)). Proclamation 8783 of March 6, 2012, implemented the USKFTA with respect to the United States and, pursuant to the USKFTA Implementation Act, incorporated into the HTSUS the schedule of duty reductions and rules of origin necessary or appropriate to carry out the USKFTA.

7. Proclamation 8771 of December 29, 2011, pursuant to section 1206(a) of the Omnibus Trade and Competitiveness Act of 1988 (Public Law 100-418, 102 Stat. 1107, 1151 (19 U.S.C. 3006(a)), modified the HTSUS to reflect amendments to the International Convention on the Harmonized Commodity Description and Coding System (the “Convention”). Section 201 of the USKFTA Implementation Act authorizes the President to proclaim such modifications or continuation of any duty, such continuation of duty-free or excise treatment, or such additional duties, as the President determines to be necessary or appropriate to carry out or apply articles 2.3, 2.5, and 2.6, and Annex 2-B, Annex 4-B, and Annex 22-A, of the USKFTA. Section 202(o) of the USKFTA Implementation Act authorizes the President to proclaim, as part of the HTSUS, the rules of origin set out in the USKFTA and to proclaim any modifications to such previously proclaimed rules of origin, subject to the exceptions stated in section 202(o)(2)(A) of the USKFTA Implementation Act. In Proclamation 9072 of December 23, 2013, the President determined that it was necessary to modify general note 33 to the HTSUS to implement agreed modifications to the rules of origin in the USKFTA and ensure the continuation of such staged reductions in rates of duty for originating goods under tariff categories that had been modified to reflect amendments to the Convention.

8. Proclamation 9072 contained a technical error in tariff classification rule 1 to chapter 88 in general note 33. I have determined that additional modifications to the HTSUS are necessary or appropriate to correct this error.

9. In Proclamation 8114 of March 19, 2007, the President established HTSUS subheading 9819.15.10 and a new U.S. Note 5 to subchapter XIX of chapter 98 of the HTSUS in order to implement certain aspects of the tariff treatment provided for in section 112(b)(8) and section 112(c) of the African Growth and Opportunity Act (Title I of the Trade and Development Act of 2000, Public Law 106-200, 114 Stat. 251, 262), as amended by section 6002(b) of the Africa Investment Incentive Act of 2006 (Division D, Title VI of the Tax Relief and Health Care Act of 2006, Public Law 109-432, 120 Stat. 2922, 3193 (19 U.S.C. 3721(b)(8) and (c))). In Proclamation 8240 of April 17, 2008, the President made modifications to U.S. Notes 2(a), 2(b), and 2(e) to subchapter XIX of chapter 98 of the HTSUS to include references to the various HTSUS subheadings established by Proclamation 8114, including references to subheading 9819.15.10. In Proclamation 8323 of November 25, 2008, the President further modified the HTSUS by deleting U.S. Note 5 to subchapter XIX of chapter 98 of the HTSUS, and its associated subheadings, including subheading 9819.15.10. However, Proclamation 8323 inadvertently omitted conforming changes to U.S. Notes 2(a), 2(b), and 2(e) to subchapter XIX of chapter 98 of the HTSUS.

10. In Proclamation 10326 of December 23, 2021, the President made certain necessary conforming changes to U.S. Notes 2(a), 2(b), and 2(e) to subchapter XIX of chapter 98 of the HTSUS, including removing references to subheading 9819.15.10 from U.S. Notes 2(a) and 2(e), but inadvertently failed to remove the reference to subheading 9819.15.10 in the first line of U.S. Note 2(b). I have determined that additional modifications to the HTSUS are necessary or appropriate to reflect the deletion of U.S. Note 5 to subchapter XIX of chapter 98 of the HTSUS, and its associated subheadings.

11. Executive Order 14346 of September 5, 2025 (Modifying the Scope of Reciprocal Tariffs and Establishing Procedures for Implementing Trade and Security Agreements), authorized the Secretary of Commerce and the United States Trade Representative to take the necessary and appropriate steps to implement any current or forthcoming trade and security framework agreements between a foreign trading partner and the United States, including modifications to the HTSUS. The Secretary of Commerce and the United States Trade Representative, in a Federal Register notice of September 25, 2025 (90 FR 46136), modified the HTSUS to provide for the preferential treatment of certain goods of the European Union with respect to the additional ad valorem duty imposed under Executive Order 14257 of April 2, 2025 (Regulating Imports With a Reciprocal Tariff To Rectify Trade Practices That Contribute to Large and Persistent Annual United States Goods Trade Deficits), as amended, including by adding headings 9903.02.74, 9903.02.75, 9903.02.76, and 9903.02.77 to the HTSUS. These four headings each cross-referenced explanatory notes in subdivisions (v)(xvi), (xvii), (xviii), and (xix) of U.S. Note 2 to subchapter III of chapter 99 of the HTSUS, respectively.

12. Subsequently, Proclamation 10976 of September 29, 2025 (Adjusting Imports of Timber, Lumber, and Their Derivative Products Into the United States), inserted a new subdivision (v)(xiii), effective October 14, 2025, and Proclamation 10984 of October 17, 2025 (Adjusting Imports of Medium- and Heavy-Duty Vehicles, Medium- and Heavy-Duty Vehicle Parts, and Buses Into the United States), inserted new subdivisions (v)(xiv) and (v)(xv), effective November 1, 2025, into U.S. Note 2 to subchapter III of chapter 99 of the HTSUS. Although both proclamations adjusted the numbering of subsequent provisions in subdivision (v), they omitted conforming changes to the cross-references in headings 9903.02.74-9903.02.77. I have determined that additional modifications to the HTSUS are necessary or appropriate to reflect these conforming changes.

13. Section 604 of the Trade Act of 1974, as amended (the “Trade Act”) (Public Law 93-618, 88 Stat. 1978, 2073 (19 U.S.C. 2483)), authorizes the President to embody in the HTSUS the substance of the relevant provisions of the Trade Act, and of other acts affecting import treatment, and actions taken thereunder, including the removal, modification, continuance, or imposition of any rate of duty or other import restriction.

NOW, THEREFORE, I, DONALD J. TRUMP, President of the United States of America, by virtue of the authority vested in me by the Constitution and the laws of the United States of America, including but not limited to section 4(b) of the USIFTA Implementation Act, sections 201 and 202 of the USSFTA Implementation Act, sections 201 and 202 of the USKFTA Implementation Act, and section 604 of the Trade Act, do proclaim that:

(1) In order to implement tariff commitments under the 2004 Agreement through December 31, 2026, the HTSUS is modified as set forth in Annex I of this proclamation.

(2) The modifications and technical rectifications to the HTSUS made by Annex I of this proclamation shall enter into effect on the applicable dates set forth in Annex I of this proclamation.

(3) In order to make the modifications and technical rectifications to the HTSUS described in paragraphs 4 through 12 of this proclamation, the HTSUS is modified as set forth in Annex II of this proclamation. These modifications and technical rectifications shall enter into effect on the applicable dates set forth in Annex II of this proclamation.

(4) Any provisions of previous proclamations and Executive Orders that are inconsistent with the actions taken in this proclamation are superseded to the extent of such inconsistency.

IN WITNESS WHEREOF, I have hereunto set my hand this twenty-ninth day of December, in the year of our Lord two thousand twenty-five, and of the Independence of the United States of America the two hundred and fiftieth.

Billing code 3395-F4-P

[FR Doc. 2026-00245

Filed 1-7-26; 11:15 am]

Billing code 7020-02-C